DEPARTMENT OF DEFENSE

Office of the Secretary

Deterrence Concepts Advisory Group Meeting

AGENCY: Department of Defense.

ACTION: Notice of advisory committee meeting.

SUMMARY: the Deterrence Concepts Advisory Group met in closed session on August 8, 2001. The committee was established to provide advice and recommendations to the Secretary of Defense on advancing a strong, secure, and persuasive U.S. force for freedom and progress in the world, and do so at the lowest force level consistent with security requirements.

In accordance with the Federal Advisory Committee Act, Public Law 92-463, as amended (5 U.S.C. App II (1982)), it was determined that the committee meeting concerned matters sensitive to the interest of national security, listed in 5 U.S.C. 552B(c)(1) (1982) and accordingly this meeting was closed to the public.

This notice is being published in less than the 15 days required by law, due to the urgent need for this committee to begin its activities so that its advice on a matter of extraordinary importance may be provided to the Secretary of Defense in a timely manner.

DATES: August 8, 2001, 10:30 a.m.

ADDRESSES: The Pentagon, Washington, DC.

FOR FURTHER INFORMATION CONTACT: Lauren Haber, Office of the Under Secretary of Defense for Policy, 703-697-0286.

Dated: August 3, 2001.
Patricia L. Toppings,
Alternate OSD Federal Register Liaison Officer, Department of Defense.

[FR Doc. 01-20050 Filed 8-9-01; 8:45 am]

BILLING CODE 5001-08-M